FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—01/22/2001
20011197 | The Pantry, Inc | East Coast Oil Company | East Coast Oil Company.
20011273 | Neptune Orient Lines Limited | Oak Hill Partners, L.P | New Logistics Holdings Corp., e-Fulfillment Corp.
TRANSACTIONS GRANTED EARLY TERMINATION—01/23/2001
20011255 | CRH plc | Carl Lizza, Jr | Mt. Hope Rock Products, Inc.
20011268 | Sulzer AG | Intra Therapeutics, Inc | IntraTherapeutics, Inc.
20011281 | SCP Pool Corporation | Hughes Supply, Inc | Allstate Pool Supply, Inc.
TRANSACTIONS GRANTED EARLY TERMINATION—01/24/2001
20011238 | Newport Corporation | Kensington Laboratories, Inc | Kensington Laboratories, Inc.
20011239 | David S. Harris | Newport Corporation | Newport Corporation.
20011240 | Paul E. Bacchi | Newport Corporation | Newport Corporation.
20011241 | Paul S. Filipski | Newport Corporation | Newport Corporation.
20011249 | Lightbridge, Inc | Corsair Communications, Inc | Corsair Communications, Inc.
20011259 | Frank Lyon Jr | U.S. Bancorp | U.S. Bancorp.
20011274 | Professor Kurt Jenny | OSI Pharmaceuticals, Inc | OSI Pharmaceuticals, Inc.
20011275 | Avaya Inc | VPNet Technologies, Inc | VPNet Technologies, Inc.
20011276 | Loyal Trust No. 1 | Berkley Petroleum Corp | Berkley Petroleum Corp.
20011280 | Internet Capital Group, Inc | AssetTRADE.com,Inc | AssetTRADE.com, Inc.
20011282 | B.N. Bahadur | Pep Guide LLC | Lightsource Parent Corporation.
TRANSACTIONS GRANTED EARLY TERMINATION—01/26/2001
20011029 | Cook Inlet Region, Inc | Pocket Communications, Inc., debtor-in-possession | DCR PCS, Inc. Pocket Communications, Inc., debtor-in-possession.
20011160 | Bouygues S.A | Henry S. Branscome | Branscome Concrete, Inc.
20011209 | i2 Technologies, Inc | Boston Ventures Limited Partnership V | EC-Content, Inc. Trade Service Corporation.
20011262 | Triad Hospitals, Inc | Hillcrest Healthcare System | SouthCrest L.L.C.
20011294 | Citigroup Inc | Chase Industries Inc | Chase Industries Inc.
TRANSACTIONS GRANTED EARLY TERMINATION—01/29/2001
20001728 | El Paso Energy Corporation | The Coastal Corporation | The Coastal Corporation.
20011264 | Six Flags, Inc | Anheuser-Busch Companies, Inc | Sea World of Ohio.
20011269 | Stronach Trust | Hilton Group plc | Ladbroke Racing Pennsylvania Inc./Sports Broadcasting, Inc.
20011285 | Paul G. Allen | TechTV, LLC | TechTV, LLC.
20011290 | Deutsche Post AG | DHL International Limited | DHL International Limited.
20011291 | Deutsche Post AG | DHL Worldwide Express, Inc | DHL Worldwide Express, Inc.
20011297 | Amcor Limited | CNC Containers Corporation | CNC Containers Corporation.
20011304 | Kyocera Corporation | Windward Capital Associates, L.P | Tycom Corporation.
20011311 | Thomson multimedia S.A | Carlton Communications plc | Carlton Communications Investments.
20011313 | Liberty Mutual Holding Company | Liberty Mutual Fire Insurance Company | Liberty Mutual Fire Insurance Company.
20011314 | Liberty Mutual Holding Company | Employers Insurance of Wausau Mutual Holding Company | Employers Insurance of Wausau Mutual Holding Company.
20011317 | J.P. Morgan Chase & Co | Advanta Corp | Advanta Corp.
20011318 | Allen B. Morgan, Jr | Regions Financial Corporation | Regions Financial Corporation.
20011319 | Regions Financial Corporation | Morgan Keegan, Inc | Morgan Keegan, Inc.
20011322 | BBA Group PLC | General Dynamics Corporation | Gulfstream Aerospace Services Corporation.
20011323 | Mr. Raul Alarcon, Jr | International Church of the Foursquare Gospel | KSFG-FM Station.
20011341 | North American Metals, Ltd | Birmingham Steel Corporation | American Steel and Wire Corporation. Birmingham Steel Corporation.
TRANSACTIONS GRANTED EARLY TERMINATION—01/30/2001
20011309 | Kaydon Corporation | William J. & Alice M. Chorkey | ACE Controls International, Inc. ACE Controls, Inc.
TRANSACTIONS GRANTED EARLY TERMINATION—01/31/2001
20011261 | Nextel Communications, Inc | Motorola, Inc | Motorola, Inc.
20011299 | Hitachi, Ltd | OpNext, Inc | OpNext, Inc.
20011301 | Clarity Partners, L.P. | OpNext, Inc | OpNext, Inc.
20011307 | Carlyle Partners III, L.P | Connecticut Health Foundation, Inc | Connecticare Holding Company, Inc.
20011325 | Olivetti S.p.A | Empresa Nacional de Telecomunicaciones | Empresa Nacional de Telecomunicaciones.
TRANSACTIONS GRANTED EARLY TERMINATION—02/01/2001
20011222 | CIENA Corporation | Cyras Systems, Inc | Cyras Systems, Inc.
TRANSACTIONS GRANTED EARLY TERMINATION—02/22/2001
20011327 | Hit Entertainment PLC | Lyrick Corporation | Big Feats L.P. Lyons Partnership L.P.

FOR FURTHER INFORMATION CONTACT: Sandra M. Peay or Parcellena P. Fielding, Contact Representatives, Federal Trade Commission, Premerger Notification Office, Bureau of Competition, Room 303, Washington, D.C. 20580, (202) 326-3100.

By direction of the Commission.
Donald S. Clark,
Secretary.

[FR Doc. 01-4759 Filed 2-26-01; 8:45 am]

BILLING CODE 6750-01-M